FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 28, 2017.

A. Federal Reserve Bank of Chicago (Colette A. Fried, Assistant Vice President) 230 South LaSalle Street, Chicago, Illinois 60690-1414:

1. George M. Stahl, Wyoming, Illinois; Patricia L. Stahl, Wyoming, Illinois; James I. Stahl, Wyoming, Illinois; Evelyn J. Stahl, Wyoming, Illinois; and Bradley M. Stahl, Chicago, Illinois; as a group acting in concert, to retain shares of Speer Bancshares, Inc., Speer, Illinois and thereby indirectly retain shares of State Bank of Speer, Speer, Illinois.

2. Peggy L. Holmes, Chillicothe, Illinois; Zealy M. Holmes Estate (Peggy L. Holmes, executor), Chillicothe, Illinois; James R. Hicks, Chillicothe, Illinois; Emmalee Holmes-Hicks, Providence, Rhode Island; Connie Holmes Nelson, Thunder Bay, Ontario, Canada; Cailin Anne Nelson, Boulder, Colorado; Ava Isobel Quinn, Boulder, Colorado; Wendy Holmes, Minneapolis, Minnesota; David Robert Frank, Minneapolis, Minnesota; and Kira Zhibo Nelson, Minneapolis, Minnesota; to retain shares of Speer Bancshares, Inc., Speer, Illinois and thereby retain shares of State Bank of Speer, Speer, Illinois.

B. Federal Reserve Bank of Kansas City (Dennis Denney, Assistant Vice President) 1 Memorial Drive, Kansas City, Missouri 64198-0001:

1. Penelope Wells individually and as Co-Trustee of the Penny J. Wells Revocable Trust and the Steven J. Wells Revocable Trust, and the trusts, and Julie Pino, all of Ardmore, Oklahoma; to retain shares of Amcorp Financial, Inc., Ardmore Oklahoma and thereby retain shares of American Nation Bank, Ardmore, Oklahoma.

Notificants also have applied to become members of the Wells Family Group.

Board of Governors of the Federal Reserve System, March 9, 2017.
Yao-Chin Chao,
Assistant Secretary of the Board.

[FR Doc. 2017-05117 Filed 3-14-17; 8:45 am]

BILLING CODE 6210-01-P